DEPARTMENT OF TRANSPORTATION

National Highway Traffic Safety Administration

[Docket No. NHTSA-2016-0102; Notice 2]

Volkswagen Group of America, Inc., Grant of Petition for Decision of Inconsequential Noncompliance

AGENCY: National Highway Traffic Safety Administration (NHTSA), Department of Transportation (DOT).

ACTION: Grant of petition.

SUMMARY: Volkswagen Group of America, Inc. (Volkswagen), has determined that certain model year (MY) 2016 Volkswagen eGolf motor vehicles do not fully comply with Federal Motor Vehicle Safety Standard (FMVSS) No. 108, Lamps, reflective devices and associated equipment. Volkswagen filed a noncompliance report dated September 16, 2016. Volkswagen then petitioned NHTSA on September 16, 2016, for a decision that the subject noncompliance is inconsequential as it relates to motor vehicle safety.

ADDRESSES: For further information on this decision contact Leroy Angeles, Office of Vehicle Safety Compliance, the National Highway Traffic Safety Administration (NHTSA), telephone (202) 366-5304, facsimile (202) 366-5930.

SUPPLEMENTARY INFORMATION:

I. Overview: Volkswagen Group of America, Inc. (Volkswagen), has determined that certain model year (MY) 2016 Volkswagen eGolf motor vehicles do not fully comply with paragraph S6.5.3.2 of Federal Motor Vehicle Safety Standard (FMVSS) No. 108, Lamps, reflective devices and associated equipment. Volkswagen filed a noncompliance report dated September 16, 2016, pursuant to 49 CFR part 573, Defect and Noncompliance Responsibility and Reports. Volkswagen then petitioned NHTSA on September 16, 2016, pursuant to 49 U.S.C. 30118(d) and 30120(h) and their implementing regulations at 49 CFR part 556, for an exemption from the notification and remedy requirements of 49 U.S.C. Chapter 301 on the basis that this noncompliance is inconsequential as it relates to motor vehicle safety.

Notice of receipt of the petition was published, with a 30-day public comment period on October 26, 2016 in the Federal Register (81 FR 74500). No comments were received. To view the petition and all supporting documents log onto the Federal Docket Management System (FDMS) Web page at: http://www.regulations.gov/. Then follow the online search instruction to locate docket number “NHTSA-2016-0102.”

II. Vehicles Involved: Affected are 1,967 MY 2016 Volkswagen eGolf motor vehicles manufactured between June 25, 2015, and September 14, 2016.

III. Noncompliance: Volkswagen explains that the noncompliance is due to a labeling error. The affected vehicles are equipped with halogen headlamps that are missing the required operation voltage label on the headlamp assembly and therefore do not meet the requirements specified in paragraph S6.5.3.2 of FMVSS No. 108.

IV. Rule Text: Paragraph S6.5.3.2 of FMVSS No. 108 states:

S6.5.3.2 Voltage and trade number. Each original and replacement equipment headlamp, and each original and replacement equipment beam contributor must be marked with its voltage and with its part or trade number.

V. Summary of Volkswagen's Petition: Volkswagen described the subject noncompliance and stated its belief that the noncompliance is inconsequential as it relates to motor vehicle safety.

In support of its petition, Volkswagen stated that the correct halogen bulb specification is denoted on the headlamp glass lens, as required, as well as on the headlamp label and in service literature, etc. The halogen light bulb type implicitly carries the voltage specification, as the designated H7 bulb is always a 12V halogen light bulb. Additionally, the halogen light bulb socket is mechanically coded and will not accept the fitment of a replacement light bulb of incorrect specification. As such, no safety risk is present, even though there is a noncompliance with FMVSS No. 108 regulatory requirements.

Volkswagen concluded by expressing the belief that the subject noncompliance presents no risk and is inconsequential as it relates to motor vehicle safety, and that its petition to be exempted from providing notification of the noncompliance, as required by 49 U.S.C. 30118, and a remedy for the noncompliance, as required by 49 U.S.C. 30120, should be granted.

NHTSA'S Decision

NHTSA's Analysis: NHTSA has reviewed and accepts Volkswagen's analysis that the subject noncompliance is inconsequential to motor vehicle safety. Specifically, the halogen headlamps missing the required operation voltage label on the headlamp assembly poses little if any risk to motor vehicle safety.

Volkswagen stated in their petition that the H7 bulb is always a 12V halogen light bulb. In accordance with paragraph S11 of FMVSS No. 108, each replaceable light source must be designed to conform to the dimensions and electrical specifications furnished with respect to it pursuant to part 564, on file in Docket No. NHTSA-98-3397. By VW's line of thought, to ensure the bulb performs within the luminous flux and power ranges specified, the bulb designer would ensure that the performance of the bulb is such that the output is compliant for a known input of 12.8V and therefore the voltage becomes implicitly specified for that specific bulb. NHTSA notes that the docket entry detailing the H7 replaceable light source specifications ¹ shows that DOT compliant H7 replaceable light sources when tested at 12.8 volts must achieve a luminous flux of 1250 ± 12% lumens with a maximum of 55.6 watts.

¹ NHTSA-1998-3397-0004.

Consumers, dealers, and repair businesses will look at the bulb designation, H7, when replacing the light source in a headlamp assembly and will in no way rely on the voltage marking. As such, the missing voltage marking poses little if any risk to motor vehicle safety.

NHTSA's Decision: In consideration of the foregoing, NHTSA finds that Volkswagen has met its burden of persuasion that the subject FMVSS No. 108 noncompliance in the affected vehicles is inconsequential to motor vehicle safety. Accordingly, Volkswagen's petition is hereby granted and Volkswagen is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that Volkswagen no longer controlled at the time it determined that the noncompliance existed. However, the granting of this petition does not relieve vehicle distributors and dealers of the prohibitions on the sale, offer for sale, or introduction or delivery for introduction into interstate commerce of the noncompliant vehicles under their control after Volkswagen notified them that the subject noncompliance existed.

Authority: 49 U.S.C. 30118, 30120: delegations of authority at 49 CFR 1.95 and 501.8.

Jeffrey M. Giuseppe,
Director, Office of Vehicle Safety Compliance.

[FR Doc. 2017-11871 Filed 6-7-17; 8:45 am]

BILLING CODE 4910-59-P